DEPARTMENT OF COMMERCE

National Institute of Standards and Technology

Proposed Information Collection; Comment Request; Technology Innovation Program Application Requirements

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 3, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Barbara Lambis at 301-975-4447 or by e-mail at barbara.lambis@nist.gov.

SUPPLEMENTARY INFORMATION:

I. Abstract

The Technology Innovation Program (TIP) is a competitive cost sharing program designed to assist U.S. businesses and institutions of higher education or other organizations, such as national laboratories, governmental laboratories (not including NIST), and nonprofit research institutes, to support, promote, and accelerate innovation in the United States through high-risk, high-reward research in areas of critical national need sponsored by the Department of Commerce's National Institute of Standards and Technology. High-risk, high-reward research is research that:

a. Has the potential for yielding transformational results with far-ranging or wide-ranging implications;

b. Addresses areas of critical national need that support, promote, and accelerate innovation in the United States and is within NIST's areas of technical competence; and is too novel or spans too diverse a range of disciplines to fare well in the traditional peer-review process.

This request is for the information collection requirements associated with submission of proposals for TIP funding. The intent of the collection is to meet statutory requirements for TIP, as well as compliance with 15 CFR part 14.

II. Method of Collection

Paper or electronically via www.grants.gov.

III. Data

OMB Control Number: 0693-0050.

Form Number: NIST-1022.

Type of Review: Regular submission.

Affected Public: Business or other for-profit organizations; not-for-profit institutions; Federal government.

Estimated Number of Respondents: 300.

Estimated Time Per Response: 37 hours.

Estimated Total Annual Burden Hours: 11,100.

Estimated Total Annual Cost to Public: $37,500.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 28, 2008.
Gwellnar Banks,
Management Analyst, Office of the Chief Information Officer.

[FR Doc. E8-20417 Filed 9-2-08; 8:45 am]

BILLING CODE 3510-13-P